DEPARTMENT OF THE INTERIOR

Bureau of Land Management

[LLIDC00000.15XL1109AF.L10200000.DS000.LXSSD0090000.241A;4500075335]

Notice of Availability of the Proposed Cottonwood Resource Management Plan Amendment for Domestic Sheep Grazing and Final Supplemental Environmental Impact Statement, Idaho

AGENCY: Bureau of Land Management, Department of the Interior.

ACTION: Notice.

SUMMARY: In accordance with the National Environmental Policy Act of 1969, as amended, and the Federal Land Policy and Management Act of 1976, as amended, the Bureau of Land Management (BLM) has prepared a Proposed Resource Management Plan (RMP) Amendment for Domestic Sheep Grazing and Final Supplemental Environmental Impact Statement (EIS) for the Cottonwood Field Office and by this notice is announcing its availability.

DATES: BLM planning regulations state that any person who meets the conditions as described in the regulations may protest the BLM's Proposed RMP Amendment/Final Supplemental EIS. A person who meets the conditions and files a protest must file the protest within 30 days of the date that the Environmental Protection Agency publishes its notice of availability in the Federal Register.

ADDRESSES: Copies of the Proposed RMP Amendment/Final Supplemental EIS have been sent to affected Federal, State, and local government agencies and to other stakeholders, including the Nez Perce Tribe. Copies of the Proposed RMP Amendment/Final Supplemental EIS are available for public inspection at the Cottonwood Field Office, 1 Butte Drive, Cottonwood, ID 83522, phone 208-962-3245. Interested persons may also review the Proposed RMP/Final EIS on the Internet at http://www.blm.gov/id/st/en/Districts-Idaho/CDA.html. All protests must be in writing and mailed to one of the following addresses:

• Regular Mail: BLM Director (210), Attention: Protest Coordinator, P.O. Box 71383, Washington, DC 20024-1383.

• Overnight Delivery: BLM Director (210), Attention: Protest Coordinator, 20 M Street SE., Room 2134LM, Washington, DC 20003

FOR FURTHER INFORMATION CONTACT: Scott Pavey, telephone: (208) 769-5059; address: BLM Coeur d'Alene District, Schreiber Way, Coeur d'Alene, ID 83815; email: blm_id_sheepseis@blm.gov. Persons who use a telecommunications device for the deaf (TDD) may call the Federal Information Relay Service (FIRS) at 1-800-877-8339 to contact the individual above during normal business hours. The FIRS is available 24 hours a day, 7 days a week, to leave a message or question with the above individual. You will receive a reply during normal business hours.

SUPPLEMENTARY INFORMATION: The BLM proposes to amend the 2009 Cottonwood RMP by providing new management direction and allocations for livestock grazing on 19,405 acres of BLM lands within four BLM allotments in Idaho and Adams Counties in Idaho.

In August 2008, the BLM published the Proposed Cottonwood RMP and Final EIS and subsequently received a number of protests on the proposed decision. The Director of the BLM denied all protest issues except one, which was in regard to the adequacy of the range of alternatives for management of domestic sheep grazing on four BLM allotments that are within bighorn sheep habitat. Specifically, the Director found that the Final EIS did not include an adequate range of alternatives to address potential disease transmission from domestic sheep and goats to bighorn sheep, and remanded decisions in the Proposed RMP for managing grazing in four allotments to the State Director to complete a Supplemental EIS that would include a reasonable range of alternatives for planning decisions for managing livestock grazing and that would analyze the impacts of domestic sheep and goat grazing within the four allotments. The Director further specified that the Supplemental EIS would be for the limited purpose of analyzing the impacts of domestic sheep and goat grazing within the four allotments.

The Supplemental EIS identifies and analyzes three related planning issues:

(1) Bighorn Sheep—Domestic sheep and goats may contact and transmit diseases to bighorn sheep, which may be a contributing factor to the downward trend in bighorn populations.

(2) Native American Tribal Interests and Treaty Rights—BLM management of livestock grazing, specifically domestic sheep and goats, may affect the availability of resources and uses (specifically related to bighorn sheep) that are important to the interests and rights of the Nez Perce Tribe.

(3) Livestock Grazing and Social and Economic Interests—Changes to BLM management of livestock grazing may affect the local economy.

Comments on the Draft RMP Amendment/Draft Supplemental EIS received from the public and internal BLM review were considered and incorporated as appropriate into the proposed plan amendment. Analysis of public comments did not result in significant changes to the proposed land use plan decisions, but did lead to the following changes in the analysis: (1) Elimination of an analytical assumption that identified a threshold for inter-species contact resulting in disease outbreak; (2) Replacement of reference to effects on bighorn sheep “population persistence” with effects on population “trends” and “sustainability;” (3) Consideration of two additional alternatives which were eliminated from detailed analysis; (4) Updates to modeling data; (5) Citations of additional and current scientific literature; (6) Clarifications regarding how an area along the Little Salmon River, which does not have a distinct herd, was considered; and (7) Information regarding the recent designation of bighorn sheep as a BLM Idaho sensitive species. Instructions for filing a protest with the Director of the BLM regarding the Proposed RMP/Final EIS may be found in the “Dear Reader” Letter of the Proposed RMP Amendment/Final Supplemental EIS and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5

Timothy M. Murphy,
Idaho State Director.

[FR Doc. 2016-12360 Filed 5-20-16; 4:15 pm]

BILLING CODE 4310-GG-P